DEPARTMENT OF THE INTERIOR

Bureau of Land Management

[UT-062-1430-01; UTU-75392]

Notice

AGENCY: Bureau of Land Management, Interior.

ACTION: Notice of intent—proposal for multiple plan amendments.

SUMMARY: The Utah Bureau of Land Management (BLM) is proposing to amend three land use plans and prepare the associated Environmental Assessment (EA). The land use plans are the Grand Resource Area Resource Management Plan (RMP), the San Rafael RMP, and the Price River Management Framework Plan (MFP).

DATES: The comment period for this proposed plan amendment will commence with the date of publication of this notice. Comments must be submitted on or before April 20, 2001.

ADDRESSES: Comments should be sent to Bill Stringer, Assistant Field Office Manager, Resources, BLM Moab Field Office, 82 East Dogwood Avenue, Moab, Utah 84532.

FOR FURTHER INFORMATION CONTACT: Bill Stringer, Assistant Field Office Manager, Resources, at the above address or telephone (435) 259-2185. Existing planning documents and information are available at the above address.

SUPPLEMENTARY INFORMATION: The purpose of the amendment is to change the minerals objectives of each plan to conform with the proposed withdrawal, from new locatable mining claims, on sections of the Colorado River, Dolores River, and Green River corridors in southeastern Utah. The notice of the proposed withdrawal, including legal descriptions, was published in the Federal Register on December 16, 1999 (FR 64, No. 241, p. 70279) as amended by Federal Register notice of January 19, 2000 (FR 65, No. 12, p. 2980). The proposed withdrawal would remove 126,565 acres of public lands from new mineral entry, subject to valid existing rights. The lands have low mineral potential and low development potential. The lands would remain open to the operation of the mineral leasing and mineral sale laws. The proposed withdrawal would protect the outstanding recreational, scenic, wildlife and cultural values on approximately 202 miles of river corridor, generally from rim to rim, and approximately 50 miles of side drainages from the impacts of new mining claims. An environmental assessment will be prepared to analyze the impacts of this proposal and the no-action alternative.

Comments, including names and street addresses of respondents will be available for public review at the BLM Moab Field Office and will be subject to disclosure under the Freedom of Information Act (FOIA). They may be published as part of the Environmental Assessment and other related documents. Individual respondents may request confidentiality. If you wish to withhold your name or street address from public review and disclosure under the FOIA, you must state this prominently at the beginning of your written comment. Such requests will be honored to the extent allowed by law. All submissions from organizations or businesses, and from individuals identifying themselves as representatives or officials of organizations or businesses, will be made available for public inspection in their entirety.

Douglas M. Koza,
Acting State Director.

[FR Doc. 01-7038 Filed 3-20-01; 8:45 am]

BILLING CODE 4310-DQ-P